DEPARTMENT OF HEALTH AND HUMAN SERVICES

Administration for Children and Families

Announcement of the Award of a Single-Source Expansion Supplement Grant to PathWays PA in Philadelphia, PA

AGENCY: Family and Youth Services Bureau (FYSB), ACYF, ACF, HHS.

ACTION: Notice of the award of a single-source expansion supplement grant Transitional Living Program (TLP) to PathWays PA in Philadelphia, PA, to serve additional runaway and homeless youth.

SUMMARY: The Administration for Children and Families (ACF), Administration on Children, Youth and Families (ACYF), Family and Youth Services Bureau's (FYSB), Runaway and Homeless Youth Program, announces the award of $200,000 as a single-source expansion supplement grant to PathWays PA to support activities and services for homeless youth under the TLP grant in Philadelphia, PA.

DATES: The period of support is September 30, 2015, through September 29, 2016.

FOR FURTHER INFORMATION CONTACT: Resa F. Matthew, Director, Division of Adolescent Development and Support, Family and Youth Services Bureau, 330 C Street SW., Washington, DC 20201; telephone: (202) 401-5124; email: resa.matthew@acf.hhs.gov.

SUPPLEMENTARY INFORMATION: PathWays PA will serve homeless parenting and non-parenting young women age 16-21. Over the next 12 months, they will serve 10 residential homeless young women in the city of Philadelphia, PA.

The goal of PathWays PA's TLP program is to support homeless youth with positive adult supervision while supporting them in building the assets, strengths, and resources necessary for successful independence. Youth will be housed in five one-bedroom apartments. While in the program, the youth will build life skills and carry out developmental tasks to gain the capacity for independent living and address their assessed/identified needs. They will build assets and strengthen protective factors that reduce the impact of prior trauma (e.g., domestic violence) and reduce the harm of high-risk behaviors through gaining skills in money management, budgeting, consumer education, and use of credit; building life skills and interpersonal skills (and parenting, as appropriate); acquiring their high school diploma or equivalent (e.g., GED); strengthening job attainment skills, and improving their mental and physical health.

PathWays PA TLP staff will work with each youth in the context of their experience (e.g., domestic violence) to minimize the impact of trauma and to develop coping skills through a Personalized Empowerment Plan (PEP). The PEP will identify their pathway for transitioning from supervised participation in the program to independent living or another appropriate living arrangement. As part of this plan, staff will facilitate connections with agencies, organizations, and resources in Philadelphia that will assist in the youth's transition to independence and create a strong plan for aftercare support.

Statutory Authority: Runaway and Homeless Youth Act, 42 U.S.C. 5701-5752, as most recently amended by the Reconnecting Homeless Youth Act, of 2008, Pub. L. 110-378 on October 8, 2008. Under Sec. 321 Authority for Program, the Secretary is authorized to make grants and to provide technical assistance to public and nonprofit private entities to establish and operate transitional living youth projects for homeless youth (42 U.S.C. 5714-1).

CFDA Number: 93.550.

Christopher Beach,
Senior Grants Policy Specialist, Division of Grants Policy, Office of Administration.

[FR Doc. 2016-01340 Filed 1-22-16; 8:45 am]

BILLING CODE 4184-33-P